NUCLEAR REGULATORY COMMISSION

[Docket No. 50-440-LR; ASLBP No. 24-982-01-LR-BD01]

Establishment of Atomic Safety and Licensing Board (Amended); ¹ Energy Harbor Nuclear Corp.

¹ This Board Establishment Notice amends the December 4, 2023 Board Establishment Notice to correct the spelling of Judge Nicholas G. Trikouros' name.

Pursuant to the Commission's regulations, see, e.g., 10 CFR 2.104, 2.105, 2.300, 2.309, 2.313, 2.318, 2.321, notice is hereby given that an Atomic Safety and Licensing Board (Board) is being established to preside over the following proceeding:

Energy Harbor Nuclear Corp. (Perry Nuclear Power Plant, Unit 1)

This proceeding involves an application seeking a twenty-year license renewal of Facility Operating License NPF-58 to authorize Energy Harbor Nuclear Corp. to operate Perry Nuclear Power Plant, Unit 1 until November 7, 2046. In response to a notice published in the Federal Register announcing the opportunity to request a hearing, see 88 FR 67373 (Sept. 29, 2023), a hearing request was filed on November 28, 2023, on behalf of Ohio Nuclear-Free Network and Beyond Nuclear.

The Board is comprised of the following Administrative Judges:

Michael M. Gibson, Chair, Atomic Safety and Licensing Board Panel, U.S. Nuclear Regulatory Commission, Washington, DC 20555-0001

Nicholas G. Trikouros, Atomic Safety and Licensing Board Panel, U.S. Nuclear Regulatory Commission, Washington, DC 20555-0001

Dr. Gary S. Arnold, Atomic Safety and Licensing Board Panel, U.S. Nuclear Regulatory Commission, Washington, DC 20555-0001

All correspondence, documents, and other materials shall be filed in accordance with the NRC E-Filing rule. See 10 CFR 2.302.

Rockville, Maryland.
Dated: December 5, 2023.
Edward R. Hawkens,
Chief Administrative Judge, Atomic Safety and Licensing Board Panel.

[FR Doc. 2023-27041 Filed 12-8-23; 8:45 am]

BILLING CODE 7590-01-P